DEPARTMENT OF COMMERCE

National Oceanic and Atmospheric Administration

[RTID 0648-XC036]

Marine Mammals; File No. 25754

AGENCY: National Marine Fisheries Service (NMFS), National Oceanic and Atmospheric Administration (NOAA), Commerce.

ACTION: Notice; receipt of application.

SUMMARY: Notice is hereby given that the NMFS Pacific Islands Fisheries Science Center, 1845 Wasp Boulevard, Building 176, Honolulu, HI 96818 (Responsible Party: Erin Oleson, Ph.D.), has applied in due form for a permit to conduct research on cetaceans.

DATES: Written, telefaxed, or email comments must be received on or before June 22, 2022.

ADDRESSES: The application and related documents are available for review by selecting “Records Open for Public Comment” from the “Features” box on the Applications and Permits for Protected Species (APPS) home page, https://apps.nmfs.noaa.gov, and then selecting File No. 25754 from the list of available applications. These documents are also available upon written request via email to NMFS.Pr1Comments@noaa.gov.

Written comments on this application should be submitted via email to NMFS.Pr1Comments@noaa.gov. Please include File No. 25754 in the subject line of the email comment.

Those individuals requesting a public hearing should submit a written request via email to NMFS.Pr1Comments@noaa.gov. The request should set forth the specific reasons why a hearing on this application would be appropriate.

FOR FURTHER INFORMATION CONTACT: Carrie Hubard or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to conduct research on 34 cetacean species in U.S. and international waters of the Pacific Islands region, including the Hawaiian archipelago, American Samoa, Guam, the Commonwealth of the Northern Mariana Islands, Kingman Reef, Palmyra Atoll, Johnston Atoll, Wake Atoll, Howland Island, Baker Island, and Jarvis Island. The following endangered or threatened species may be taken during research activities: Blue whale (Balaenoptera musculus), false killer whale (Pseudorca crassidens), fin whale (B. physalus), humpback whale (Megaptera novaeangliae), North Pacific right whale (Eubalaena japonica), sei whale (B. borealis), and sperm whale (Physeter macrocephalus). The objectives of the research are to determine the abundance, stock structure, distribution, movement patterns, and ecological relationships of cetaceans in the study area. Research activities include aerial surveys using manned and unmanned aircraft systems, vessel surveys, behavioral observations, photo-identification, passive acoustic recordings, underwater photography, biological sample collection (skin and blubber biopsies, exhaled air, feces, and sloughed skin), and tagging (suction-cup and dart/barb). Marine mammal parts would also be imported, exported, salvaged, or received for analysis and curation. See the application for complete numbers of animals requested by species, life stage, and procedure. The permit is requested for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 18, 2022.
Amy Sloan,
Acting Chief, Permits and Conservation Division, Office of Protected Resources, National Marine Fisheries Service.

[FR Doc. 2022-11016 Filed 5-20-22; 8:45 am]

BILLING CODE 3510-22-P